FEDERAL MARITIME COMMISSION

Notice of Agreements Filed

The Commission hereby gives notice of the filing of the following agreement under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreement are available through the Commission's website (www.fmc.gov) or by contacting the Office of General Counsel at (202) 523-5740 or GeneralCounsel@fmc.gov.

Agreement No.: 201458.

Agreement Name: Terminal Operator Sustainability Cooperative Working Agreement.

Parties: International Transportation Service, LLC; and SSA Terminals, LLC.

Filing Party: Michael Amy, Holland & Knight, LLP.

Synopsis: The Agreement authorizes the parties to discuss the impact and implementation of the San Pedro Bay Ports Clean Air Action Plan 2030 and similar environmental sustainability requirements initiatives.

Proposed Effective Date: 9/26/2025.

Location: https://www2.fmc.gov/FMC.Agreements.Web/Public/AgreementHistory/89630.

Dated: August 15, 2025.
Jennifer Everling,
Assistant Secretary.

[FR Doc. 2025-15806 Filed 8-18-25; 8:45 am]

BILLING CODE 6730-02-P